FEDERAL COMMUNICATIONS COMMISSION

Notice of Public Information Collection(s) Being Submitted for Review and Approval to the Office of Management and Budget (OMB), Comments Requested

January 4, 2011.

SUMMARY: As part of its continuing effort to reduce paperwork burden and as required by the Paperwork Reduction Act (PRA) of 1995 (44 U.S.C. 3501-3520), the Federal Communications Commission invites the general public and other Federal agencies to comment on the following information collection. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before February 7, 2011. If you anticipate that you will be submitting PRA comments, but find it difficult to do so within the period of time allowed by this notice, you should advise the FCC contact listed below as soon as possible.

ADDRESSES: Direct all PRA comments to Nicholas A. Fraser, Office of Management and Budget, via fax at 202-395-5167 or the Internet at Nicholas_A._Fraser@omb.eop.gov; and to the Federal Communications Commission's PRA mailbox (e-mail address: PRA@fcc.gov.). Include in the e-mail the OMB control number of the collection as shown in the SUPPLEMENTARY INFORMATION section below, or if there is no OMB control number, include the Title as shown in the SUPPLEMENTARY INFORMATION section. If you are unable to submit your comments by e-mail, contact he person listed below to make alternate arrangements.

FOR FURTHER INFORMATION CONTACT: For additional information, contact Judith B. Herman at 202-418-0214 or via the Internet at Judith-b.herman@fcc.gov.

SUPPLEMENTARY INFORMATION: OMB Control Number: 3060-0809.

Title: Communications Assistance for Law Enforcement Act (CALEA).

Form No.: N/A.

Type of Review: Revision of a currently approved collection.

Respondents: Business or other for-profit.

Number of Respondents: 200 respondents; 285 responses.

Estimated Time per Response: 7.5-80 hours.

Frequency of Response: On occasion reporting requirement and third party disclosure requirement.

Obligation to Respond: Mandatory. Statutory authority for this information collection is contained in Public Law 103-414, Communications Assistance for Law Enforcement Act (CALEA), sections 105, 107(c), 109(b) and 301; 47 U.S.C. 1004, 1006(c), 1008(b) and 229.

Total Annual Burden: 3,475 hours.

Total Annual Cost: N/A.

Privacy Act Impact Assessment: N/A.

Nature and Extent of Confidentiality: Pursuant to section 0.457(g) of the Commission's rules, the information in the CALEA system security filings and petitions will not be made routinely available for public inspection. Section 107(c) and 109(b) filings are entitled to confidential treatment under the Freedom of Information Act (FOIA). The Commission has directed respondents to file their petitions under a general claim of confidential or proprietary protection, subject only to scrutiny by the Commission and the Attorney General who is consulted in section 107(c) adjudications and is a party to all section 109(b) adjudications.

Needs and Uses: The Commission will submit this expiring information collection (IC) to the OMB during this comment period. The Commission is seeking OMB approval for a revision to this existing IC. The Commission is reporting a decrease of 2,800 total annual burden hours for this IC. The decrease is due to removal of a recordkeeping burden estimate associated in 47 CFR 1.20004. This estimate has been eliminated by 1,655 hours because the nature and extent of the requirement is usual and customary. Telecommunications carriers must keep such records to demonstrate that they are in compliance with Federal and State wiretapping laws and regulations that have existing for the past 40 years.

The Communications Assistance for Law Enforcement Act (CALEA) requires: (a) telecommunications carriers to protect against unlawful interception of communications of their facilities by establishing policies and procedures to ensure security and integrity of those facilities and to maintain records of all interceptions of unlawful electronic surveillance, and (b) the FCC to prescribe CALEA implementing rules and to review the carriers' filings under section 301(b) and to order any deficiencies to be corrected. Information collections include mandatory system security filings, and voluntary extension of time and cost reimbursement petitions.

Marlene H. Dortch,
Secretary, Federal Communications Commission.

[FR Doc. 2011-123 Filed 1-6-11; 8:45 am]

BILLING CODE 6712-01-P